DEPARTMENT OF HEALTH AND HUMAN SERVICES

Centers for Medicare & Medicaid Services

42 CFR Parts 430, 431, 433, 435, 440, 447, and 457

Office of the Secretary

45 CFR Part 155

[CMS-2334-CN]

RIN 0938-AR04

Medicaid, Children's Health Insurance Programs, and Exchanges: Essential Health Benefits in Alternative Benefit Plans, Eligibility Notices, Fair Hearing and Appeal Processes for Medicaid and Exchange Eligibility Appeals and Other Provisions Related to Eligibility and Enrollment for Exchanges, Medicaid and CHIP, and Medicaid Premiums and Cost Sharing; Correction

AGENCY: Centers for Medicare & Medicaid Services (CMS), HHS.

ACTION: Proposed rule; correction.

SUMMARY: This document makes a technical correction to the proposed rule published in the January 22, 2013 Federal Register entitled “Medicaid, Children's Health Insurance Programs, and Exchanges: Essential Health Benefits in Alternative Benefit Plans, Eligibility Notices, Fair Hearing and Appeal Processes for Medicaid and Exchange Eligibility Appeals and Other Provisions Related to Eligibility and Enrollment for Exchanges, Medicaid and CHIP, and Medicaid Premiums and Cost Sharing.” The proposed rule provided for the close of the comment period to be February 13, 2013, whereas the close of the comment period was intended to be February 21, 2013. This document makes this technical correction.

DATES: The comment close date for the proposed rule under the same heading published in the January 22, 2013 Federal Register is correctly extended to February 21, 2013.

FOR FURTHER INFORMATION CONTACT: Annette Brewer, (410) 786-6580.

SUPPLEMENTARY INFORMATION:

I. Background

In FR Doc. 2013-00659 of January 22, 2013 (78 FR 4594), there was a technical error that is identified and corrected in the Correction of Errors section below. The provision in this correction document is effective as if it had been included in the document published on January 22, 2013.

II. Summary of Errors

In the DATES section of the proposed rule, we established a closing date of the 30-day comment period as February 13, 2013. In this notice we are making a technical correction to the comment period, which now closes on February 21, 2013.

III. Waiver of Proposed Rulemaking

We ordinarily publish a notice of proposed rulemaking in the Federal Register to provide a period for public comment before the provisions of a rule take effect in accordance with section 553(b) of the Administrative Procedure Act (APA) (5 U.S.C. 553(b)). However, we can waive this notice and comment procedure if the Secretary finds, for good cause, that the notice and comment process is impracticable, unnecessary, or contrary to the public interest, and incorporates a statement of the finding and the reasons therefore in the notice. This correction notice has the effect of extending the period for public comment that was initially established in the proposed rule published in the Federal Register on January 22, 2013 (78 FR 4594). This correction notice makes no changes to any of the substantive matters discussed in the proposed rule. Rather, this correction notice makes a technical correction to the date on which the period for public comment on the previously published proposed rule ends. This technical correction will not disadvantage any member of the public, and it is in the public interest to permit the full intended time period for comment. Therefore, we find it unnecessary to issue a notice of proposed rulemaking for this correction notice.

IV. Correction of Errors

In FR Doc. 2013-00659 of January 22, 2013 (78 FR 4594), make the following corrections:

In the DATES section, the date “February 13, 2013” is corrected to read “February 21, 2013”.

(Catalog of Federal Domestic Assistance Program No. 93.778, Medical Assistance Program)

Dated: January 25, 2013.
Jennifer M. Cannistra,
Executive Secretary to the Department.

[FR Doc. 2013-02094 Filed 1-28-13; 4:15 pm]

BILLING CODE 4120-01-P